DEPARTMENT OF ENERGY

Federal Energy Regulatory Commission

[Docket No. CP03-75-002]

Freeport LNG Development, L.P.; Notice of Intent To Prepare An Environmental Assessment for the Proposed Freeport LNG Development, L.P.'s Amended Freeport LNG (Pipeline) Project and Request for Comments on Environmental Issues

June 13, 2005.

The staff of the Federal Energy Regulatory Commission (FERC or Commission) will prepare an environmental assessment (EA) that will discuss the environmental impacts of Freeport LNG Development, L.P.'s (Freeport LNG) proposal to amend its authorization for its Freeport LNG Project. Freeport LNG proposes to change the diameter of its previously approved pipeline from 36 inches to 42 inches. The larger pipeline would use the same right-of-way and workspaces as the previously approved route from Quintana Island to Stratton Ridge in Brazoria County, Texas. Freeport LNG is not requesting any additional work areas for the construction of the larger pipeline.

This notice announces the opening of the scoping period that will be used to gather environmental input from the public and interested agencies on the project. Please note that the scoping period will close on July 13, 2005.

This notice is being sent to potentially affected landowners; federal, state, and local government agencies; elected officials; environmental and public interest groups; Native American Tribes, other interested parties; local libraries and newspapers. State and local government representatives are asked to notify their constituents of this planned project and encourage them to comment on their areas of concern.

A fact sheet prepared by the FERC entitled “An Interstate Natural Gas Facility On My Land? What Do I Need To Know?” is available for viewing on the FERC website (http://www.ferc.gov). This fact sheet addresses a number of typically asked questions, including how to participate in the Commission's proceedings. It is available for viewing on the FERC Internet Web site (http://www.ferc.gov).

Background

In the Commission's June 18, 2004 Order, Freeport LNG was authorized to construct and operate a 9.6 mile, 36-inch-diameter pipeline and a liquefied natural gas (LNG) terminal. At this time the authorized LNG terminal is under construction. Pipeline construction is planned to start in December 2005.

Freeport LNG filed its original application on March 28, 2003. At that time Freeport LNG did not foresee a potential for additional customer demand. Since the project was authorized by the Commission other customers have expressed interest in using the LNG facility to import natural gas. Freeport proposes to meet this increased demand by expanding its authorized facilities. The proposal under consideration in this docket is only Freeport LNG's proposal to increase the diameter of its outlet pipeline from 36 inches to 42 inches.¹

¹ Freeport LNG has also filed an application to expand the LNG terminal in Docket No. CP05-361-000. This application will be the focus of a separate environment review and an NOI for this project will be issued in the near future.

We are looking at the increased pipeline diameter separately from the proposed expansion of the LNG terminal for several reasons. First, since the larger pipeline would be constructed in the same footprint as the previously authorized pipeline it appears that there would be no additional environmental impact from that described in the environmental impact statement (EIS) prepared for the original Freeport LNG Project. Second, although the increase in diameter would benefit future expansion, it would also benefit the already authorized terminal. The increase in diameter would provide Freeport LNG with more operational flexibility by maintaining higher delivery pressures at the Stratton Ridge delivery point at the terminus of the line. Staff estimates that the increase in pipe diameter would increase delivery pressures at the Stratton Ridge delivery point by as much as 13 percent. Higher delivery pressures at the Stratton Ridge delivery would enable Freeport LNG to respond to larger hourly swings in demand on its pipeline system. Finally, there is a timing issue. In order to meet the in-service date for the authorized project, construction of the pipeline must start in December 2005. If the authorized 36-inch-diameter pipeline is installed and the Commission decides to approve the expansion of the terminal a second pipeline would need to be installed to meet the volume requirements of the expansion. This would result in increased environmental impact. If the Commission decides not to approve the expansion the 42-inch-diameter pipeline would continue to be used for the existing customers.

The location of the project facilities is shown in Appendix 1.²

² The appendices referenced in this notice are not being printed in the Federal Register. Copies of all appendices, other than appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

Construction of the 42-inch-diameter pipeline would disturb the same 87.9 acres of land that would have been disturbed by the previously approved 36-inch-diameter pipeline. Following construction, about 37.3 acres would be maintained as permanent right-of-way. The remaining 50.6 acres of land would be restored and allowed to revert to its former use.

The EA Process

We ³ are preparing this EA to comply with the National Environmental Policy Act (NEPA) which requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. By this notice, we are also asking federal, state, and local agencies with jurisdiction and/or special expertise with respect to environmental issues to formally cooperate with us in the preparation of the EA. Agencies that would like to request cooperating status should follow the instructions for filing comments below.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

³ ”We”, “us”, and “our” refer to the environmental staff of the Office of Energy Projects (OEP).

Currently Identified Environmental Issues

Since the proposed increase in pipeline diameter would not result in any environmental impacts that were not described in the Freeport LNG Environmental Impact Statement, in the EA, we will summarized the impacts that could occur as a result of the construction and operation of the project. We will also evaluate possible alternatives to increasing the diameter of the pipeline.

Public Participation

You can make a difference by providing us with your specific comments or concerns about the project. By becoming a commentor, your concerns will be addressed in the EA and considered by the Commission. You should focus on the potential environmental effects of the proposal, alternatives to the proposal (including alternative locations and routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket Number CP03-75-002.

• Mail your comments so that they will be received in Washington, DC on or before July 13, 2005.

Please note that the Commission strongly encourages electronic filing of any comments or interventions or protests to this proceeding. See 18 CFR 385.2001(a)(1)(iii) and the instructions on the Commission's Web site at http://www.ferc.gov under the “e-Filing” link and the link to the User's Guide. Before you can file comments, you will need to create and account which can be created on-line.

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214, see Appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

If you wish to remain on our environmental mailing list, please return the Information Request Form included in Appendix 2. If you do not return this form, you will be removed from our mailing list.

Additional Information

Additional information about the project is available from the Commission's Office of External Affairs, at 1-866-208-FERC or on the FERC Internet website (www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TYY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to www.ferc.gov/esubscribenow.htm.

Magalie R. Salas,
Secretary.

[FR Doc. E5-3147 Filed 6-17-05; 8:45 am]

BILLING CODE 6717-01-P